NATIONAL SCIENCE FOUNDATION

Advisory Committee for Geosciences; Notice of Meeting

In accordance with the Federal Advisory Committee Act (Pub. Law 92-463, as amended), the National Science Foundation announces the following meeting:

Name: Advisory Committee for Geosciences (1755)

Dates: May 1, 2000; 8:30 a.m.—5:30 p.m. May 2, 2000; 8:00 a.m.—3:30 p.m.

Place: Room 1235, National Science Foundation, 44201 Wilson Boulevard, Arlington, VA

Type of Meeting: Open

Contact Person: Dr. Thomas Spence, Directorate for Geosciences, National Science Foundation, Suite 705, 4201 Wilson Boulevard, Arlington, Virginia 22230, Phone 704-306-1502

Minutes: May be obtained from the contact person listed above.

Purpose of Meeting: To provide advice, recommendations, and oversight concerning support for research, education, and human resources development in the geosciences.

Agenda:

Environmental Initiative Information Technology Research Initiative

GPRA Update

GEO Education, Human Resources and Diversity

GEO 2000 and future issues.

Note: A detailed agenda will be posted on the NSF web page approximately one week prior to the meeting on http://www.geo.nsf.gov/adgeo/advcomm/start.htm

Dated: April 6, 2000.
Karen J. York,
Committee Management Officer.

[FR Doc. 00-9198 Filed 4-12-00; 8:45 am]

BILLING CODE 7555-01-M